DEPARTMENT OF TRANSPORTATION

Federal Transit Administration

Privacy Act of 1974: System of Records

AGENCY: Federal Transit Administration (FTA).

ACTION: Notice to establish a system of records.

SUMMARY: DOT intends to establish a system of records under the Privacy Act of 1974. The Privacy Act of 1974, as amended, 5 U.S.C. 552a, requires that agencies that maintain a system of records publish a notice in the Federal Register of the existence and character of the system of records. In accordance with the Privacy Act, the Department of Transportation (DOT) is giving notice of a system of records to meet the Federal Transit Administration's (FTA's) needs for emergency contact information in case of illness or injury to its employees and contractors.

DATES: Effective Date: This notice will be effective, without further notice, on July 15, 2008, unless modified by a subsequent notice to incorporate comments received by the public. Comments must be received by July 7, 2008 to be assured consideration.

FOR FURTHER INFORMATION CONTACT: Habib Azarsina, Departmental Privacy Officer, S-80, United States Department of Transportation, Office of the Secretary of Transportation, 1200 New Jersey Ave, SE., Washington, DC 20590, telephone 202-366-1965 or habib.azarsina@dot.gov.

SUPPLEMENTARY INFORMATION: The Department of Transportation system of records notice subject to the Privacy Act of 1974 (5 U.S.C. 552a), as amended, has been published in the Federal Register and is available from the above mentioned address.

SYSTEM NUMBER: DOT/FTA 802.

SYSTEM NAME:

The Operational Assets and Information Security (OASIS) System.

SECURITY CLASSIFICATION:

Unclassified, Non-Sensitive.

SYSTEM LOCATION:

This system of record is in the Office of Information Technology for the Department of Transportation/Federal Transit Administration, Integrated Communication Solutions data center located at 5260 Westview Drive, Frederick, MD 21703.

CATEGORIES OF INDIVIDUALS COVERED BY THE SYSTEM OF RECORDS:

FTA employees and contractors

CATEGORIES OF RECORDS IN THE SYSTEM

Information maintained in this system consists of employee/contractor work information in the form of room number, work telephone number, and systems to which the employees have access. The system also stores employee/contractor home addresses and telephone numbers.

AUTHORITY FOR MAINTENANCE OF THE SYSTEM:

49 U.S.C. 321.

PURPOSES:

Employee/contractor personal information is encouraged in case of emergency where the individual's family may need to be reached. Input of this information is not mandatory and is provided at the individual's option. Also, no record subject is able to see the information of any other record subject.

ROUTINE USES OF RECORDS MAINTAINED IN THE SYSTEM, INCLUDING CATEGORIES OF USERS AND THE PURPOSES OF SUCH USES:

See Prefatory Statement of General Routine Uses.

DISCLOSURE TO CONSUMER REPORTING AGENCIES:

None.

POLICIES AND PRACTICES FOR STORING, RETRIEVING, ACCESSING, RETAINING, AND DISPOSING OF RECORDS IN THE SYSTEM:

STORAGE:

Documents are stored electronically in a SQL Server database on the internal network (behind departmental firewall).

RETRIEVABILITY:

Records are retrieved by searching on an individual's name or office symbol.

SAFEGUARDS:

OASIS is an FTA application that resides on the internal network behind the departmental firewall. Users are authenticated by their network user ID and password.

RETENTION AND DISPOSAL:

Data is kept in the system for the life of the system. Many of FTA's applications interface with OASIS and individuals who are no longer working for FTA are in an inactive status. This is necessary in order to maintain historical traceability in our applications.

SYSTEM MANAGER(S) AND ADDRESS:

Office of Information Technology (TAD-20), Federal Transit Administration, 1200 New Jersey Ave., SE., Washington, DC 20590.

NOTIFICATION PROCEDURE:

Same as “System Manager.”

RECORD ACCESS PROCEDURES:

Same as “System Manager.”

CONTESTING RECORD PROCEDURES:

Same as “System Manager.”

RECORD SOURCE CATEGORIES:

Personal information is entered voluntarily by the individual at her/his own discretion for emergency procedures.

EXEMPTIONS CLAIMED FOR THE SYSTEM:

None.

Habib Azarsina,
Departmental Privacy Officer, DOT / OST / S-83.

[FR Doc. E8-12615 Filed 6-4-08; 8:45 am]

BILLING CODE 4910-62-P